DEPARTMENT OF HOMELAND SECURITY

Transportation Security Administration

New Agency Information Collection Activity Under OMB Review: Surface Transportation Stakeholder Survey

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. The collection involves the submission of a survey by surface transportation stakeholders regarding resource challenges, including the availability of Federal funding, associated with securing surface transportation assets.

DATES: Send your comments by July 8, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on March 21, 2019, 84 FR 10524.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Surface Transportation Stakeholder Survey.

Type of Request: New collection.

OMB Control Number: 1652-NEW.

Form(s): NA.

Affected Public: Stakeholders responsible for securing surface transportation assets.

Abstract: Section 1983(a) of the FAA Reauthorization Act of 2018 (H.R. 302, Pub. L. 115-254, 132 Stat. 3186, Oct. 5, 2018) (the “Act”) directs the Secretary of Homeland Security to conduct a survey of public and private stakeholders responsible for securing surface transportation assets regarding resource challenges, including the availability of Federal funding associated with securing such assets that provides an opportunity for respondents to set forth information on specific unmet security needs. The Act also requires reporting to the appropriate congressional committees regarding the survey results and the efforts of DHS to address any identified security vulnerabilities. This report must be submitted within 120 days of beginning the required survey.

As memorialized in a memorandum of understanding between the Federal Emergency Management Agency (FEMA) and TSA, TSA supports the grant process for surface transportation through numerous activities, including stakeholder outreach and soliciting feedback for program improvements from surface transportation security partners. Consistent with the above authorities and agreements with FEMA, TSA is now seeking approval to conduct the survey.

Number of Respondents: 641.

Estimated Annual Burden Hours: 1,282.8 hours.

Dated: June 4, 2019.
Christina A. Walsh,
TSA Paperwork Reduction Act Officer, Information Technology.

[FR Doc. 2019-12029 Filed 6-6-19; 8:45 am]

BILLING CODE 9110-05-P